DEPARTMENT OF HOMELAND SECURITY

Coast Guard

33 CFR Part 165

[Docket No. USCG-2012-0146]

RIN 1625-AA87

Security Zone; 2012 Fleet Week, Port Everglades, Fort Lauderdale, FL

AGENCY: Coast Guard, DHS.

ACTION: Temporary final rule.

SUMMARY: The Coast Guard is establishing a temporary security zone on the waters of Port Everglades in Fort Lauderdale, Florida during 2012 Fleet Week. 2012 Fleet Week will take place from Wednesday, April 25, 2012 through Monday, April 30, 2012. The security zone will encompass the main shipping channel into Port Everglades Harbor and the Intracoastal Waterway through Port Everglades Harbor. The security zone will be enforced while U.S. Navy vessels participating in 2012 Fleet Week transit into and out of Port Everglades. The security zone is necessary to ensure the safety and security of U.S. Navy vessels, the public, and surrounding waterway from terrorist acts, sabotage or other subversive acts, accidents, or other causes of a similar nature. Entering or remaining in this security zone is prohibited unless authorized by the Captain of the Port Miami or a designated representative.

DATES: This rule is effective from 6 a.m. on April 25, 2012 through 1 p.m. on April 30, 2012. This rule will be enforced from 6 a.m. until 1 p.m. on April 25, 2012 and April 30, 2012.

ADDRESSES: Documents indicated in this preamble as being available in the docket are part of docket USCG-2012-0146 and are available online by going to http://www.regulations.gov, inserting USCG-2011-0146 in the “Keyword” box, and then clicking “Search.” They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this temporary final rule, call or email Lieutenant Jennifer S. Makowski, Sector Miami Prevention Department, Coast Guard; telephone (305) 535-8724, email Jennifer.S.Makowski@uscg.mil. If you have questions on viewing the docket, call Renee V. Wright, Program Manager, Docket Operations, telephone (202) 366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule. The Coast Guard did not receive necessary information regarding the event with sufficient time to publish an NPRM and to receive public comments in advance of the effective date of the security zone. Any delay in the effective date of this rule would be contrary to the public interest as immediate action is needed to protect U.S. Navy vessels, the public, and the surrounding waterway from sabotage or other subversive acts, accidents, or other causes of a similar nature.

Basis and Purpose

The legal basis for the rule is the Coast Guard's authority to establish regulated navigation areas and limited access areas: 33 U.S.C. 1231; 46 U.S.C. Chapter 701, 3306, 3703; 50 U.S.C. 191, 195; 33 CFR 1.05-1, 6.04-1, 6.04-6, 160.5; Public Law 107-295, 116 Stat. 2064; Department of Homeland Security Delegation No. 0170.1.

The purpose of the rule is to protect U.S. Navy vessels, the public, and the surrounding waterways from potential terrorist acts, sabotage or other subversive acts, accidents, or other causes of a similar nature.

Discussion of Rule

On April 25, 2012, U.S. Navy vessels will be transiting into Port Everglades in Fort Lauderdale, Florida for 2012 Fleet Week. These vessels will remain in port until April 30, 2012.

33 CFR 165.2025 provides for a 500 yard regulated area of water surrounding U.S. Navy vessels that are greater than 100 feet. This naval vessel protection zone is not sufficient for 2012 Fleet Week due to: (1) The large number and types of U.S. Navy vessels participating in the event; and (2) the anticipated increase of vessel traffic during the event. The temporary security zone encompasses the main shipping channel into Port Everglades Harbor and certain waters of the Intracoastal Waterway in Fort Lauderdale, Florida. The northern boundary of the security zone is the northern extension of the turning basin at the SE. 17th Street Causeway Bridge. The eastern boundary of the security zone is the mouth of Port Everglades Harbor. The southern boundary of the security zone is near berth 29 of Port Everglades Harbor. The western boundary is the westernmost point of all the piers, slips, and turning basins of Port Everglades Harbor. The safety zone will be enforced during the transit of U.S. Navy vessels into and out of Port Everglades for 2012 Fleet Week. The security zone will be enforced from 6 a.m. until 1 p.m. on April 25, 2012 and April 30, 2012. The security zone may cease to be enforced prior to the end of the stated enforcement periods if the U.S. Navy vessels arrive in, or depart from, Port Everglades early.

Persons and vessels are prohibited from entering or remaining in the security zone unless authorized by the Captain of the Port Miami or a designated representative. Persons and vessels desiring to enter or remain in the security zone may contact the Captain of the Port Miami by telephone at (305) 535-4472, or a designated representative via VHF radio on channel 16, to request authorization. If authorization to enter or remain in the security zone is granted by the Captain of the Port Miami or a designated representative, all persons and vessels receiving such authorization must comply with the instructions of the Captain of the Port Miami or a designated representative. The Coast Guard will provide notice of the security zone by Local Notice to Mariners, Broadcast Notice to Mariners, and on-scene designated representatives.

Regulatory Analyses

We developed this rule after considering numerous statutes and executive orders related to rulemaking. Below we summarize our analyses based on 13 of these statutes or executive orders.

Regulatory Planning and Review

Executive Orders 13563, Improving Regulation and Regulatory Review, and 12866, Regulatory Planning and Review, direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has not been designated a significant regulatory action under section 3(f) of Executive Order 12866. Accordingly, the Office of Management and Budget has not reviewed this regulation under Executive Order 12866.

The economic impact of this rule is not significant for the following reasons: (1) The security zone will only be enforced for a total of 14 hours; (2) although persons and vessels will not be able to enter or remain in the security zone without authorization from the Captain of the Port Miami or a designated representative, they may operate in the surrounding area during the enforcement periods; (3) persons and vessels may still enter or remain in the security zone if authorized by the Captain of the Port Miami or a designated representative; and (4) the Coast Guard will provide advance notification of the security zone to the local maritime community by Local Notice to Mariners and Broadcast Notice to Mariners.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: The owners or operators of vessels intending to enter or remain within that portion of Port Everglades Harbor encompassed within the security zone from 6 a.m. to 1 p.m. on Wednesday, April 25, 2012 and Monday, April 30, 2012. For the reasons discussed in the Regulatory Planning and Review section above, this rule will not have a significant economic impact on a substantial number of small entities.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have Tribal implications under Executive Order 13175, Consultation and Coordination with Indian Tribal Governments, because it does not have a substantial direct effect on one or more Indian Tribes, on the relationship between the Federal Government and Indian Tribes, or on the distribution of power and responsibilities between the Federal Government and Indian Tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(g), of the Instruction. This rule involves establishing a temporary security zone that will be enforced for a total of 14 hours. An environmental analysis checklist and a categorical exclusion determination are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, 160.5; Pub. L. 107-295, 116 Stat. 2064; Department of Homeland Security Delegation No. 0170.1.

2. Add a temporary § 165.T07-0146 to read as follows:

§ 165.T07-0146 Security Zone; 2012 Fleet Week, Port Everglades, Fort Lauderdale, FL.

(a) Location. The following regulated area is a security zone. All waters of Port Everglades Harbor and the Intracoastal Waterway encompassed within an imaginary line connecting the following points: Starting at Point 1 in position 26°06′03″ N, 80°07′07″ W; thence southeast to Point 2 in position 26°05′37″ N, 80°06′18″ W; thence southwest to Point 3 in position 26°04′44″ N, 80°06′52″ W; thence northwest to Point 4 in position 26°05′25″ N, 80°07′27″ W; thence north to Point 5 in position 26°05′43″ N, 80°07′27″ W; thence northeast back to origin. All coordinates are North American Datum 1983.

(b) Definition. The term “designated representative” means Coast Guard Patrol Commanders, including Coast Guard coxswains, petty officers, and other officers operating Coast Guard vessels, and Federal, state, and local officers designated by or assisting the Captain of the Port Miami in the enforcement of the regulated area.

(c) Regulations. (1) All persons and vessels are prohibited from entering or remaining in the regulated area unless authorized by the Captain of the Port Miami or a designated representative.

(2) Persons and vessels desiring to enter or remain in the regulated area may contact the Captain of the Port Miami by telephone at (305) 535-4472, or a designated representative via VHF radio on channel 16, to request authorization. If authorization to enter or remain in the regulated area is granted by the Captain of the Port Miami or a designated representative, all persons and vessels receiving such authorization must comply with the instructions of the Captain of the Port Miami or a designated representative.

(3) The Coast Guard will provide notice of the regulated area by Broadcast Notice to Mariners and on-scene designated representatives.

(d) Effective Date. This rule is effective from 6 a.m. on April 25, 2012 until 1 p.m. on April 30, 2012. This rule will be enforced from 6 a.m. until 1 p.m. on April 25, 2012 and April 30, 2012.

Dated: March 20, 2012.
C.P. Scraba,
Captain, U.S. Coast Guard, Captain of the Port Miami.

[FR Doc. 2012-8535 Filed 4-9-12; 8:45 am]

BILLING CODE 9110-04-P